DEPARTMENT OF HEALTH AND HUMAN SERVICES

Administration for Children and Families

[CFDA Number: 93.652]

Announcing the Award of a Single-Source Cooperative Agreement to the American Public Human Services Association for the Association of Administrators of the Interstate Compact on the Placement of Children (AAICPC) in Washington, DC

AGENCY: Children's Bureau, Administration on Children, Youth and Families, ACF, HHS.

ACTION: Notice of the award of a single-source cooperative agreement to the American Public Human Services Association on behalf of its' affiliate, the Association of Administrators of the Interstate Compact On the Placement of Children to scale the successful pilot National Electronic Interstate Compact Enterprise (NEICE) system to a national level.

SUMMARY: The Administration for Children and Families (ACF), Administration on Children, Youth and Families (ACYF), Children's Bureau (CB) announces the award of a single-source cooperative agreement in the amount of $1,200,000 for each of 3 years to the American Public Human Services Association for its affiliate the Association of Administrators of the Interstate Compact on the Placement of Children (AAICPC), Washington, DC, for the national expansion of the NEICE to improve the administrative efficiency in the interstate process of the ICPC nationally. The ICPC establishes uniform legal and administrative procedures governing the interstate placement of children for the purposes of foster care, adoption and residential placement in all 52 member jurisdictions of the ICPC.

Award funds will support the development of the NEICE beyond the original six pilot sites to include all 50 states, the District of Columbia and the U.S. Virgin Islands. The NEICE system was previously developed as a pilot project through the Partnership Fund for Program Integrity Innovation with funding directed through The Administration for Children and Families (ACF), Administration on Children, Youth and Families (ACYF). Implementation of a national inter-jurisdictional Interstate Compact on the Placement of Children (ICPC) electronic system is intended to improve the administrative efficiency in the interstate process via the ICPC.

The AAICPC as an affiliate of the APHSA is uniquely positioned to scale up this project due to their governance of the placement of children across state lines for purposes of foster care, adoption and residential placements.

DATES: The first year of this 3 year project will begin June 1, 2015 and end May 31, 2016. Pending the availability of grant funds, the same level will be made available for 2 subsequent years to complete the expansion of the NEICE.

FOR FURTHER INFORMATION CONTACT: June Dorn, National Adoption Specialist, Division of Capacity Building, 1250 Maryland Avenue SW., Suite 8150, Washington, DC 20024. Telephone: 202-205-9540; Email: June.Dorn@acf.hhs.gov

Statutory Authority: The statutory authority is title II, section 203(b) of the Child Abuse Prevention and Treatment and Adoption Reform Act of 1978 (42 U.S.C. 5113(b)(3)), as most recently amended by CAPTA Reauthorization Act of 2010.

Mark Greenberg,
Acting Commissioner, Administration on Children, Youth and Families.

[FR Doc. 2015-12418 Filed 5-20-15; 8:45 am]

BILLING CODE 4184-01-P